DEPARTMENT OF HEALTH AND HUMAN SERVICES

National Institutes of Health

Government Owned Inventions Available for Licensing or Collaboration: Improved Methods for Cryopreservation of Cells, Tissues, and Organs

AGENCY: National Institutes of Health, HHS.

ACTION: Notice.

SUMMARY: The National Eye Institute (NEI), an institute of the National Institutes of Health (NIH), Department of Health and Human Services (HHS), is giving notice of licensing and/or collaboration opportunities for the inventions listed below, which are owned by an agency of the U.S. Government and are available for licensing and/or collaboration to achieve expeditious commercialization of results of federally-funded research and development.

FOR FURTHER INFORMATION CONTACT: Inquiries related to these licensing and/or collaboration opportunities should be directed to: Hiba Alsaffar, Ph.D., Technology Transfer Manager, NCI, Technology Transfer Center, Email: hiba.alsaffar@nih.gov or Phone: 240-276-7489.

SUPPLEMENTARY INFORMATION: Researchers at the NEI seek licensing and/or co-development research collaborations for improved methods of cryopreservation of cells, tissues, and organs via FOXO1 activation. The cornea is a critical part of the eye that helps prevent debris from entering and refracts light for proper vision. Corneal disorders such as keratoconus, Fuchs dystrophy, and infectious keratitis require corneal transplantation to restore vision. Approximately 185,000 corneal transplants are performed annually worldwide to treat corneal disorders. Corneas for those transplants are supplied by donor eyes that are stored at eye banks in select countries. Currently, Optisol-GS™ is the corneal preservation solution that is most widely used to store donated corneas at eye banks. Per NEI guidelines, corneas preserved in Optisol-GS™ have a 12-day shelf life. With the high demand for corneal transplantations worldwide, a 12-day shelf life cannot meet the requirement for long term cryogenic storage of corneas at large eye banks. Scientists at the NEI have developed improved methods for cryopreservation of cells, tissues, and organs (with focus of corneal tissue/cells) that increases cold storage shelf life 2.5 times longer than current market products.

This Notice is in accordance with 35 U.S.C. 209 and 37 CFR part 404.

NIH Reference Number: E-013-2021.

Related Technologies: E-073-2018.

Product Type: Medical/Research Tool.

Therapeutic Area(s): Eye, Ear, Nose or Throat.

Potential Commercial Applications:

• Corneal biobanks.

• Transplantation to remedy a wide range of corneal disorders.

• Improved method of cryopreserving corneal cells and other cell types.

Competitive Advantages:

• Superior corneal shelf life: 16-day compared to 12-day maximum shelf-life of current market products.

• Better meets requirement for larger eye bank cryopreservation.

• 95% endothelial cell survival after 4 weeks in cold storage.

Patent Status: National Stage Filings in the US, CA, AU, CN, EP.

Development Stage: Discovery.

Dated: November 12, 2024.
Richard U. Rodriguez,
Associate Director, Technology Transfer Center, National Cancer Institute.

[FR Doc. 2024-26661 Filed 11-14-24; 8:45 am]

BILLING CODE 4140-01-P